DEPARTMENT OF AGRICULTURE

Office of the Secretary

[Docket Number: AMS-CN-07-0093; CN-07-007]

Advisory Committee on Universal Standards; Meeting

AGENCY: Agricultural Marketing Service, USDA.

ACTION: Notice of meeting.

SUMMARY: In accordance with the Federal Advisory Committee Act, as amended, the Agricultural Marketing Service (AMS) announces a forthcoming meeting of the Advisory Committee on Universal Cotton Standards.

DATES: June 12, 2008, at 9 a.m. to 5 p.m. and on June 13, 2008, at 9 a.m. until the review is complete.

Place: On June 12, at the Peabody Hotel, 149 Union Avenue, Memphis, Tennessee 38103. Phone (901) 529-4000.

On June 13, at USDA, Agricultural Marketing Service, Cotton and Tobacco Programs office at 3275 Appling Road, Memphis, Tennessee 38133. Phone (901) 384-3000. The meeting is open to the public.

FOR FURTHER INFORMATION CONTACT: James Knowlton, Standardization and Engineering Branch, Cotton and Tobacco Programs, AMS, USDA, 3275 Appling Road, Memphis, Tennessee 38133; Phone (901) 384-3030, facsimile (901) 384-3032, or e-mail at james.knowlton@usda.gov.

SUPPLEMENTARY INFORMATION: The committee includes representatives of all segments of the U.S. cotton industry and the twenty-three overseas associations that are signatories to the Universal Cotton Standards Agreement which is authorized under the United States Cotton Standards Act (U.S.C. 51-65). The purpose of the meeting is: (1) To recommend to the Secretary of Agriculture any changes considered necessary to the Universal Standards; and (2) to review freshly prepared sets of Universal Cotton Standards for conformity with existing standards.

The meeting is open to the public. Written comments may be submitted in advance or following the meeting to Mr. Knowlton. Notice of this meeting is provided in accordance with section 10(a)(2) of the Federal Advisory Committee Act (Public Law No. 92-463).

Dated: May 27, 2008.
Lloyd C. Day,
Administrator, Agricultural Marketing Service.

[FR Doc. E8-12221 Filed 5-30-08; 8:45 am]

BILLING CODE 3410-02-P